DEPARTMENT OF AGRICULTURE

Forest Service

Supplement to the Final Environmental Impact Statement for Amendment of National Forest Management Plans

AGENCY: Forest Service, USDA.

ACTION: Notice of intent to prepare a supplement to a Final Environmental Impact Statement.

SUMMARY: The Forest Service, Southwestern Region, is preparing a Supplement to the Final Environmental Impact Statement (FEIS) for Amendment of Forest Plans in Arizona and New Mexico to disclose, review, and assess scientific arguments challenging the agency's conclusions over the northern goshawk's habitat preferences. The supplement will update the FEIS which amended the eleven Forest Plans in the Region for northern goshawk, Mexican spotted owl, and old growth standards and guidelines in June 1996.

DATES: The Draft Supplement to the Final Environmental Impact Statement is expected in March 2004 and the Final Supplement is expected in June 2004.

FOR FURTHER INFORMATION CONTACT: Lou Woltering, Assistant Director of Wildlife, Southwestern Region, 333 Broadway SE., Albuquerque, NM 87102.

SUPPLEMENTARY INFORMATION:

Purpose and Need for Action and Nature of Decision To Be Made

The Supplement to the FEIS is being prepared in accordance with an opinion filed November 18, 2003, by the Ninth Circuit Court of Appeals (CV-00-01711-RCB) which held that the Final EIS failed to disclose responsible scientific opposition that was addressed in the project record. The Original Notice of intent for this plan amendment was published in the Federal Register on June 24, 1992 (57 FR 28171). The Supplement will address the issue of scientific arguments over the northern goshawk's habitat preference and update the Final EIS for Amendment of National Forest Management Plans in the Southwestern Region. The Final EIS includes guidelines for management of habitat for the Mexican spotted owl and northern goshawk. The Final EIS was noticed for availability in the Federal Register on November 3, 1995 (60 FR 55841). The Record of Decision was signed June 5, 1996.

Responsible Official

The Responsible Official is the Southwestern Regional Forester, Harv Forsgren, at 333 Broadway SE., Albuquerque, New Mexico, 87102.

Public Involvement Process

The Draft Supplement to the FEIS will be circulated for a comment period following Council of Environmental Quality regulations at 40 CFR 1502.9(c.)(4).

Early Notice of Importance of Public Participation in Subsequent Environmental Review: A Draft Supplemental Environmental Impact Statement will be prepared for comment. The comment period on the Draft Supplement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: January 27, 2004.
Abel Camarena,
Deputy Regional Forester, Southwestern Region, USDA Forest Service.

[FR Doc. 04-2046 Filed 1-30-04; 8:45 am]

BILLING CODE 3410-11-P